DEPARTMENT OF HEALTH AND HUMAN SERVICES

Centers for Disease Control and Prevention

Pulmonary Function Testing Course Approval Program, 29 CFR 1910.1043, OMB No. 0920-0138—Correction; Assessment of Occupational Electric and Magnetic Field (EMF) Exposures—Validation of Interview Procedures Used in a Brain Tumor Study Against Measurements of Biologically-Based Exposure Metrics—Correction

A notice announcing proposed data collections submitted for public comment and recommendations was published in the Federal Register August 18, 2004, (69 FR 51314). The notices are corrected as follows:

On page 51314, in the second column, second line from end of second paragraph, the comment period should be changed from 14 to 60.

On page 51315, in the first column, second line from end of first paragraph, the comment period should be changed from 14 to 60.

All other information of the August 18, 2004, notice remains the same.

Dated: August 27, 2004.
Betsey Dunaway,
Acting Director, Management Analysis and Services Office, Centers for Disease Control and Prevention.

[FR Doc. 04-20010 Filed 9-1-04; 8:45 am]

BILLING CODE 4163-18-P